LEGAL SERVICES CORPORATION

Sunshine Act Meeting

DATE AND TIME: The Legal Services Corporation's Board of Directors and its six committees will meet July 22-23, 2021. On Thursday, July 22, the first meeting will begin at 11:00 a.m. Eastern Daylight Time (EDT), with the next meeting commencing promptly upon adjournment of the immediately preceding meeting. On Friday, July 23, the first meeting will again begin at 11:00 a.m., EDT, with the next meeting commencing promptly upon adjournment of the immediately preceding meeting.

LOCATION: Public Notice Of Virtual Remote Meeting. Legal Services Corporation (LSC) will conduct the July 22-23, 2021 meetings virtually via ZOOM.

PUBLIC OBSERVATION: Unless otherwise noted herein, the Board and all committee meetings will be open to public observation. Members of the public who wish to participate remotely in the public proceedings may do so by following the directions provided below.

DIRECTIONS FOR OPEN SESSIONS:

Thursday, July 22, 2021

• To join the Zoom meeting by computer, please click this link.

○ https://lsc-gov.zoom.us/j/96265076865?pwd=MUtVODlLVHV2ZFJtNFZRSHpGNzJ5Zz09

○ Meeting ID: 962 6507 6865

○ Passcode: 104547

• To join the Zoom meeting with one tap from your mobile phone, please click dial:

○ +13017158592,,96265076865# US (Washington, DC)

○ +16468769923,,96265076865# US (New York)

• To join the Zoom meeting by telephone, please dial one of the following numbers:

○ +1 301 715 8592 US (Washington, DC)

○ +1 646 876 9923 US (New York)

○ +1 312 626 6799 US (Chicago)

○ +1 669 900 6833 US (San Jose)

○ +1 253 215 8782 US (Tacoma)

○ +1 346 248 7799 US (Houston)

○ +1 408 638 0968 US (San Jose)

○ Meeting ID: 962 6507 6865

○ Find your local number: https://lsc-gov.zoom.us/u/acCVpRj1FD

Friday, July 23, 2021

• To join the Zoom meeting by computer, please click this link.

○ https://lsc-gov.zoom.us/j/94866369776?pwd=RkRVWENzdEFpSU9xN3htN2hMU3V1UT09

○ Meeting ID: 948 6636 9776

○ Passcode: 955616

• To join the Zoom meeting with one tap from your mobile phone, please click dial:

○ +13017158592,,94866369776# US (Washington, DC)

○ +13126266799,,94866369776# US (Chicago)

• To join the Zoom meeting by telephone, please dial one of the following numbers:

○ +1 301 715 8592 US (Washington, DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

○ Meeting ID: 948 6636 9776

○ Find your local number: https://lsc-gov.zoom.us/u/acYqkXUrVo

Once connected to Zoom, please immediately “MUTE” your computer/telephone. Members of the public are asked to keep their computers or telephones muted to eliminate background noise. To avoid disrupting the meetings, please refrain from placing the call on hold if doing so will trigger recorded music or other sound.

From time to time, the Chair may solicit comments from the public. To participate in the meeting during public comment, use the `raise your hand' or `chat' functions in Zoom and wait to be recognized by the Chair before stating your questions and/or comments.

MEETING SCHEDULE

| Start time *
Thursday July 22, 2021
1. Governance and Performance Review Committee | 11:00 a.m. EDT.
2. Finance Committee.
3. Combined Audit & Finance Committees.
4. Audit Committee.
5. Operations & Regulations Committee.
6. Delivery of Legal Services Committee.
Friday July 23, 2021
1. Institutional Advancement Committee | 11:00 a.m. EDT.
2. Communications Subcommittee of the Institutional Advancement Committee.
3. Board of Directors.

STATUS OF MEETING: Open, except as noted below.

* Please note all meetings are Eastern Daylight Time (EDT).

Audit Committee—Open, except that the meeting may be closed to the public to hear a briefings on the Office of Compliance and Enforcement's active enforcement matters and LSC's system of internal controls designed to minimize the risk of fraud, theft, corruption, or misuse of funds.* *

* *Any portion of the closed session consisting solely of briefings does not fall within the Sunshine Act's definition of the term “meeting” and, therefore, the requirements of the Sunshine Act do not apply to such portion of the closed session. 5 U.S.C. 552b (a) (2) and (b). See also 45 CFR 1622.2 & 1622.3.

Institutional Advancement Committee —Open, except that, upon a vote of the Board of Directors, the meeting may be closed to the public to consider and act on a recommendation to invite prospective members to join the Leaders Council and Emerging Leaders Council, and to receive a briefing on development activities.* *

Board of Directors—Open, except that, upon a vote of the Board of Directors, a portion of the meeting may be closed to the public to hear briefings by management and LSC's Inspector General, and to consider and act on the General Counsel's report on potential and pending litigation involving LSC and prospective Leaders Council and Emerging Leaders Council invitees.* *

A verbatim written transcript will be made of the closed session of the Board, Audit and Institutional Advancement Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

July 22, 2021

Governance and Performance Review Agenda

Open Session

1. Approval of agenda

2. Approval of minutes of the Committee's Open Session and Closed Session meetings on April 19, 2021

3. Report on Transition: White House and U.S. Department of Justice announcements establishing the Access to Justice Office and Legal Aid Interagency Roundtable, and presenting initiatives to address evictions and foreclosures

a. Carol Bergman, Vice President, Government Relations & Public Affairs

b. Ronald S. Flagg, President

4. Consider and act on other business

5. Public comment

6. Consider and act on adjournment of meeting

Finance Committee Agenda

Open Session

1. Approval of agenda

2. Approval of the minutes of the Committee's Open Session meeting of June 10, 2021

3. Presentation of LSC's Financial Report for the first eight months of FY 2021 ending May 31, 2021

a. Deborah Moore, Chief Financial Officer & Treasurer

4. Report on the FY 2022 appropriations process and supplemental appropriations

a. Carol Bergman, Vice President, Government Relations & Public Affairs

5. Consider and act on FY 2022 Temporary Operating Authority, Resolution 2021-XXX

6. Consider and act on FY 2023 Budget Request, Resolution 2021-XXX

a. Carol Bergman, Vice President, Government Relations & Public Affairs

7. Public comment

8. Consider and act on other business

9. Consider and act on motion to adjourn the meeting

Combined Finance & Audit Committees Meeting Agenda

Open Session

1. Approval of agenda

2. Approval of the minutes of the Combined Finance and Audit Committees' Open Session meeting on April 20, 2021

3. Approval of the minutes of the Combined Finance and Audit Committees' Closed Session meeting on April 20, 2021

4. Presentation of the Fiscal Year 2020 IRS Form 990

a. Deborah Moore, Chief Financial Officer & Treasurer

5. Public comment

6. Consider and act on other business

7. Consider and act on motion to adjourn the meeting

Audit Committee Meeting

Open Session

1. Approval of agenda

2. Approval of minutes of the Committee's Open Session Meeting on April 20, 2021

3. Briefing by the Office of Inspector General

a. Jeffrey E. Schanz, Inspector General

b. Roxanne Caruso, Assistant Inspector General for Audit

4. Management update regarding risk management

a. Ronald S. Flagg, President

5. Briefing on Management/Office of Inspector General Relations

a. Ronald S. Flagg, President

b. Jeffrey E. Schanz, Inspector General

6. Briefing about follow-up by the Office of Compliance and Enforcement on referrals by the Office of Inspector General regarding audit reports and annual financial statement audits of grantees

a. Lora Rath, Director, Office of Compliance and Enforcement

b. Roxanne Caruso, Assistant Inspector General for Audit

7. Briefing on the 403(b) Audit Report

a. Deborah Moore, Chief Financial Officer & Treasurer

8. Public comment

9. Consider and act on other business

10. Consider and act on motion to adjourn the Open Session meeting and proceed to a Closed Session

Closed Session

1. Approval of minutes of Committee's Closed Session meeting on April 20, 2021

2. Briefing by Office Compliance and Enforcement on active enforcement matter(s) and follow-up on open investigation referrals from the Office of Inspector General

a. Lora Rath, Director, Office of Compliance and Enforcement

3. Briefing pursuant to Section VIII(C)(1) of the Committee Charter, regarding LSC's systems of internal controls that are designed to minimize the risk of fraud, theft, corruption, or misuse of funds

a. Deborah Moore, Chief Financial Officer & Treasurer

4. Consider and act on motion to adjourn the meeting

Operations and Regulations Committee

Open Session

1. Approval of agenda

2. Approval of minutes of the Committee's Open Session meeting on April 19, 2021

3. Briefing on (a) LSC's presentation to the Administrative Conference of the United States (ACUS) Council on Federal Agency Adjudication, and (b) ACUS's recommendations on (i) periodic retrospective review of agency rules, and (ii) early input on regulatory alternatives

a. Stefanie Davis, Senior Assistant General Counsel

4. Update on public comment on the draft Financial Guide to replace the Accounting Guide

a. Mark Freedman, Senior Associate General Counsel

b. Stuart Axenfeld, Deputy Director for Fiscal Compliance, Office of Compliance and Enforcement

5. Public comment

6. Consider and act on other business

7. Consider and act on motion to adjourn the meeting

Delivery of Legal Services Committee

Open Session

1. Approval of Agenda

2. Approval of Minutes of the Committee's Open Session meeting on April 19, 2021

3. Presentation on Grantee Cybersecurity

a. Lynn Jennings, Vice President for Grants Management

b. Jada Breegle, Chief Information Officer

4. Performance Criteria Update

a. Lynn Jennings, Vice President for Grants Management

5. Panel Discussion: Grantee Reflections on the Impact of COVID-19 and the Path Forward

a. Silvia Argueta, Executive Director, Legal Aid Foundation of Los Angeles

b. Steven McGarrity, Executive Director, Community Legal Aid Services (Ohio)

c. Karen Newton-Cole, Executive Director, Neighborhood Legal Services (Washington, DC)

d. Brent Thompson, Executive Director, East River Legal Services (South Dakota)

e. Moderator: Joyce McGee, Director, Office of Program Performance

6. Public comment

7. Consider and act on other business

8. Consider and act on a motion to adjourn the meeting

July 23, 2021

Institutional Advancement Committee

Open Session

1. Approval of agenda

2. Approval of minutes of the Institutional Advancement Committee's Open Session meeting on April 19, 2021

3. Update on Leaders Council and Emerging Leaders Council

4. Development report

a. John G. Levi, Chairman of the Board

5. Update on Opioid Task Force Implementation

a. Stefanie Davis, Senior Assistant General Counsel

6. Update on Veterans Task Force Implementation

a. Stefanie Davis, Senior Assistant General Counsel

7. Update on Disaster Task Force Implementation

a. Lynn Jennings, Vice President for Grants Management

8. Update on the Eviction Study and Housing Task Force Implementation

a. Lynn Jennings, Vice President for Grants Management

9. Consider and act on Expenditure of Private Funds to Support LSC's Housing Task Force, Resolution 2021-XXX

10. Update on Rural Justice Task Force

a. Marissa Jeffery, Graduate Law Fellow

11. Public comment

12. Consider and act on other business

13. Consider and act on motion to adjourn the Open Session meeting and proceed to a Closed Session

Closed Session

1. Approval of minutes of the Institutional Advancement Committee's Closed Session meeting on April 19, 2021

2. Development activities report

a. Nadia Elguindy, Director of Institutional Advancement

3. Consider and act on motion to approve Leaders Council and Emerging Leaders Council invitees

4. Consider and act on other business

5. Consider and act on motion to adjourn the meeting

Communications Subcommittee of the Institutional Advancement Committee

Open Session

1. Approval of agenda

2. Approval of minutes of the Subcommittee's Open Session meeting on April 19, 2021

3. Communications and social media update

a. Carl Rauscher, Director of Communications and Media Relations

b. Carol Bergman, Vice President for Government Relations and Public Affairs

c. Jada Breegle, Chief Information Officer

d. Shanikka Richardson, Web Content Manager

4. Public comment

5. Consider and act on other business

6. Consider and act on motion to adjourn the meeting

Board of Directors Meeting

Open Session

1. Pledge of Allegiance

2. Approval of agenda

3. Approval of minutes of the Board's Telephonic Meeting on May 25, 2021

4. Chairman's Report

5. Members' Reports

6. President's Report

7. Inspector General's Report

8. Consider and act on the Report of the Governance and Performance Review Committee

9. Consider and act on the Report of the Operations and Regulations Committee

10. Consider and act on the Report of the Finance Committee

11. Consider and act on the Report of the Audit Committee

12. Consider and act on the Report of the Institutional Advancement Committee

13. Consider and act on the report of the Delivery of Legal Services Committee

14. Consider and act on Resolution 2021-XXX, In Recognition and Appreciation of Distinguished Service by Members of the LSC Veterans Task Force

15. Consider and act on Resolution 2021-XXX, In Recognition and Appreciation of Distinguished Service by DLA Piper

16. Public comment

17. Consider and act on other business

18. Consider and act on whether to authorize a Closed Session of the Board to address items listed below

Closed Session

1. Approval of minutes of the Board's Closed Session meeting on April 20, 2021

2. Management briefing

3. Inspector General briefing

4. Consider and act on General Counsel's report on potential and pending litigation involving LSC

5. Consider and act on prospective Leaders Council and Emerging Leaders Council invitees

6. Consider and act on motion to adjourn the meeting

CONTACT PERSON FOR INFORMATION: Jessica Wechter, Board Relations Coordinator, at (202) 295-1626. Questions may also be sent by electronic mail to FR_NOTICE_QUESTIONS@lsc.gov.

NON-CONFIDENTIAL MEETING MATERIALS: Non-confidential meeting materials will be made available in electronic format at least 24 hours in advance of the meeting on the LSC website, at https://www.lsc.gov/about-lsc/board-meeting-materials.

Dated: July 13, 2021.
Mark Freedman,
Senior Associate General Counsel.

[FR Doc. 2021-15205 Filed 7-14-21; 11:15 am]

BILLING CODE 7050-01-P